DEPARTMENT OF ENERGY

Office of International Regimes and Agreements; Proposed Subsequent Arrangement

AGENCY: Department of Energy.

ACTION: Subsequent arrangement.

SUMMARY: This notice has been issued under the authority of section 131a. of the Atomic Energy Act of 1954, as amended. The Department is providing notice of a proposed subsequent arrangement under the Agreement for Cooperation Between the Government of the United States of America and the Government of India Concerning Peaceful Uses of Nuclear Energy (“the 123 Agreement”).

This subsequent arrangement concerns the Arrangements and Procedures Agreed Between the Government of the United States of America and the Government of India Pursuant to Article 6(iii) of the Agreement for Cooperation Concerning Peaceful Uses of Nuclear Energy (“the Arrangements and Procedures”). The Arrangements and Procedures are proposed as part of the requirements for bringing into effect the rights conveyed by Article 6(iii) of the 123 Agreement regarding reprocessing or other alteration in form or content of nuclear material transferred pursuant to the 123 Agreement and nuclear material and by-product material used in or produced through the use of nuclear material, non-nuclear material, or equipment so transferred. These Arrangements and Procedures establish the conditions under which the Government of India may reprocess U.S.-obligated nuclear material within India at “a new national reprocessing facility dedicated to reprocessing safeguarded material under International Atomic Energy Agency safeguards” to be established by India. The Arrangements and Procedures will apply to the reprocessing of U.S.-obligated nuclear material at two such facilities within India. (Subject to the processing of additional subsequent arrangements, they may also apply to additional reprocessing facilities in the future.) The Arrangements and Procedures specify minimum requirements for reprocessing facility design, safeguards system design and installation, and implementation of IAEA safeguards at such facilities. The Arrangements and Procedures also specify an approach to implementation of the obligations in the 123 Agreement with respect to physical protection and storage of U.S.-obligated nuclear material at the new reprocessing facilities where U.S.-obligated nuclear material may be reprocessed. Finally, the Arrangements and Procedures establish a process under which the United States may suspend the reprocessing of U.S.-obligated nuclear material in India in exceptional circumstances, the circumstances of which are described in the Arrangements and Procedures.

In accordance with section 131a(1) of the Atomic Energy Act of 1954, as amended, I have determined that this subsequent arrangement is not inimical to the common defense and security.

This subsequent arrangement will take effect no sooner than the later of: (1) The lapse of fifteen calendar days after the date of publication of this notice; (2) the lapse of fifteen days of continuous session after I have provided the Committee on Foreign Affairs of the House of Representatives and the Committee on Foreign Relations of the Senate a report stating the reasons for entering into this subsequent arrangement; and (3) the lapse of thirty days of continuous session after I have provided Congress the report required by section 201(b) of the United States-India Nuclear Cooperation Approval and Nonproliferation Enhancement Act (Pub. L. 110-369). All of these time periods will run concurrently.

Dated: May 11, 2010.
Steven Chu,
Secretary of Energy.

[FR Doc. 2010-11813 Filed 5-17-10; 8:45 am]

BILLING CODE 6450-01-P